DEPARTMENT OF ENERGY

Agency Information Collection Extension

AGENCY: U.S. Department of Energy.

ACTION: Submission for Office of Management and Budget (OMB) review; comment request.

SUMMARY: The Department of Energy (DOE) has submitted an information collection request to the OMB for an extension under the provisions of the Paperwork Reduction Act of 1995. The DOE requests a three-year extension of its “Privacy Act Administration” information collection (formerly titled “Records and Administration”), OMB Control Number 1910-1700. The information collection and collection instrument aids DOE's processing of Privacy Act requests submitted by an individual or an authorized representative, wherein he or she requests records that the government may maintain pertaining to that individual. The DOE's use of this form continues to contribute to DOE's Privacy Act processes, including, but not limited to, providing for faster processing of Privacy Act information requests by asking individuals or their authorized representatives for pertinent information needed for records retrieval. DOE published a 60-day Notice and Request for Comments concerning this collection in the Federal Register on April 10, 2017. No comments were received in response to the 60-day notice.

DATES: Comments regarding this collection must be received on or before October 18, 2017. If you anticipate that you will be submitting comments, but find it difficult to do so within the period of time allowed by this notice, please advise the OMB Desk Officer of your intention to make a submission as soon as possible. The Desk Officer may be telephoned at 202-395-4718.

ADDRESSES: Written comments should be sent to the DOE Desk Officer, Office of Information and Regulatory Affairs, Office of Management and Budget, New Executive Office Building, Room 10102, 735 17th Street NW., Washington, DC 20503 and to Ken Hunt, Chief Privacy Officer, U.S. Department of Energy, 1000 Independence Avenue SW., Rm. 8H-085, Washington, DC 20585 or by facsimile at 202-586-8151 or by email at privacy@hq.doe.gov.

FOR FURTHER INFORMATION CONTACT: Ken Hunt, Chief Privacy Officer, U.S. Department of Energy, 1000 Independence Avenue SW., Rm. 8H-085, Washington, DC 20585 or by facsimile at 202-586-8151 or by email at privacy@hq.doe.gov.

SUPPLEMENTARY INFORMATION: This information collection request contains: (1) OMB No. 1910-1700; (2) Information Collection Request Title: Privacy Act Administration (formerly titled “Records and Administration”); (3) Type of Request: Regular; (4) Purpose: The Privacy Act Information Request form aids DOE's processing of Privacy Act requests submitted by an individual or an authorized representative, wherein he or she requests records that the government may maintain pertaining to that individual. The DOE's use of this form continues to contribute to DOE's Privacy Act processes, including, but not limited to, providing for faster processing of Privacy Act information requests by asking individuals or their authorized representatives for pertinent information needed for records retrieval; (5) Annual Estimated Number of Respondents: 135; (6) Annual Estimated Number of Total Responses: 135; (7) Annual Estimated Number of Burden Hours: 45; (8) Annual Estimated Reporting and Recordkeeping Cost Burden: $0.

Statutory Authority: The Privacy Act of 1974, 5 U.S.C. 552(a); 10 CFR 1008.7; and DOE Order 206.1.

Issued in Washington, DC, on July 19, 2017.
Allan K. Manuel,
Deputy Chief Information Officer for Enterprise Policy, Portfolio Management, and Governance, Office of the Chief Information Officer.

[FR Doc. 2017-19768 Filed 9-15-17; 8:45 am]

BILLING CODE 6450-01-P